FEDERAL RESERVE SYSTEM

Formations of, Acquisitions by, and Mergers of Bank Holding Companies; Correction

This notice corrects a notice (FR Doc. 00-15702) published on page 38832 of the issue for Thursday, June 22, 2000.

Under the entry for Formations of, Acquisitions by, and Mergers of Bank Holding Companies, is revised to read as follows:

A. Federal Reserve Bank of Atlanta (Lois Berthaume, Vice President) 104 Marietta Street, NW., Atlanta, Georgia 30303-2713:

1. Cumberland Bancshares, Inc., Hartsville, Tennessee; to acquire 51 percent of the voting shares of Academy Bank (in organization), Lebanon, Tennessee.

B. Federal Reserve Bank of Chicago (Phillip Jackson, Applications Officer) 230 South LaSalle Street, Chicago, Illinois 60690-1414:

1. Amana Bancshares, Inc., Southfield, Michigan; to become a bank holding company by acquiring 100 percent of the voting shares of Amana Bank (in organization), Dearborn, Michigan.

Comments on this application must be received by July 17, 2000.

The correct date this Notice was signed by the Board of Governors of the Federal Reserve System, is June 16, 2000.

Board of Governors of the Federal Reserve System, June 28, 2000.
Robert deV. Frierson,
Associate Secretary of the Board.

[FR Doc. 00-16832 Filed 7-3-00; 8:45 am]

BILLING CODE 6210-01-P